DEPARTMENT OF THE INTERIOR

National Park Service

[NPS-WASO-NAGPRA-16230; PPWOCRADN0-PCU00RP14.R50000]

Notice of Inventory Completion: University of Massachusetts Amherst, Department of Anthropology, Amherst, MA; Correction

AGENCY: National Park Service, Interior.

ACTION: Notice; correction.

SUMMARY: The University of Massachusetts Amherst, Department of Anthropology has corrected an inventory of human remains and associated funerary objects published in a Notice of Inventory Completion in the Federal Register on May 15, 2014. This notice corrects the minimum number of individuals and number of associated funerary objects. Lineal descendants or representatives of any Indian tribe or Native Hawaiian organization not identified in this notice that wish to request transfer of control of these human remains and associated funerary objects should submit a written request to the University of Massachusetts Amherst, Department of Anthropology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Massachusetts Amherst, Department of Anthropology at the address in this notice by October 10, 2014.

ADDRESSES: Julie Woods, Repatriation Coordinator, University of Massachusetts Amherst, Department of Anthropology, 215 Machmer Hall, 240 Hicks Way, Amherst, MA 01003, telephone (413) 545-2702, email repat@anthro.umass.edu.

SUPPLEMENTARY INFORMATION: Notice is here given in accordance with the Native American Graves Protection and Repatriation Act (NAGPRA), 25 U.S.C. 3003, of the correction of an inventory of human remains and associated funerary objects under the control of the University of Massachusetts Amherst, Department of Anthropology, Amherst, MA. The human remains and associated funerary objects were removed from Gill, Franklin County, MA, and Northampton, Hampshire County, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (79 FR 27926-27928, May 14, 2014). The associated funerary objects from the Casley-Stempel site in Gill, MA, and human remains and associated funerary objects from the Bark Wigwams Site, Northampton, MA, were mistakenly omitted from this Notice of Inventory Completion. Transfer of control of the items in this correction notice has not occurred.

Correction

In the Federal Register (79 FR 27926-27928, May 14, 2014), paragraph 4, sentence 2 is corrected by substituting the following:

The human remains and associated funerary objects were removed from the towns of Westfield in Hampden County, MA; Easthampton, Northampton, Hatfield, Hadley, North Hadley, and South Hadley in Hampshire County, MA; Deerfield, Gill, and Greenfield in Franklin County, MA; and Hardwick and Princeton, in Worcester County, MA.

In the Federal Register (79 FR 27926-27928, May 14, 2014), paragraph 16, sentences 9-11 are corrected by substituting the following:

From the Casley-Stemple site, 4,190 associated funerary objects were removed. The associated funerary objects include individual non-lithic funerary objects and 849 lots of lithic artifacts. The non-lithic artifacts include 1,870 pottery sherds, 506 unidentified faunal bones, 838 pieces of charcoal, 5 unidentified seeds, 1 piece of whiteware, 5 pieces of brick, 1 piece of glass, 3 pieces of soapstone, 1 piece of iron, 5 sets of red ocher fragments, 14 pieces of shell and 92 unidentified artifacts. The 849 lots of lithic artifacts include a majority of flakes, fragments, and chipping debris of various materials; partial and complete projectile points; preforms and chunks of quartz and other materials; perforators; edge tools; hammerstones; and cobbles.

In the Federal Register (79 FR 27926-27928, May 14, 2014), after paragraph 19, insert the following:

During a Field School in 1985, an inadvertent discovery of a burial led to the excavation of two individuals at the Bark Wigwams site, Northampton, Hampshire County, MA, by faculty and students of the University of Massachusetts, Department of Anthropology, as requested by the Massachusetts State Archaeologist. The individuals were transferred to the Massachusetts Historical Commission and were believed to be reinterred at an unknown date. Soil samples containing bone and teeth fragments representing, at minimum, one individual and associated funerary objects have remained at the University. No known individuals were identified. From the Bark Wigwams site 38 lots of associated funerary objects were removed, including 5 lots of historic material (glass, metals, ceramics and brick), 1 lot of charred nuts, 8 lots of lithic flakes, 5 lots of stone tool fragments, 1 lot of rock, 3 lots of lithic debitage, 2 lots of projectile points, 3 lots of unidentified faunal bone, 1 lot of unidentified charred bone, 1 lot of organic material, 4 lots of soil samples and 4 lots of burial soil.

In the Federal Register (79 FR 27926-27928, May 14, 2014), paragraph 22 is corrected by substituting the following:

Pursuant to 25 U.S.C. 3001(9), the human remains described in this notice represent the physical remains of 95 individuals of Native American ancestry.

In the Federal Register (79 FR 27926-27928, May 14, 2014), paragraph 23 is corrected by substituting the following:

Pursuant to 25 U.S.C. 3001(3)(A), the 4,234 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Julie Woods, Repatriation Coordinator, University of Massachusetts Amherst, Department of Anthropology, 215 Machmer Hall, 240 Hicks Way, Amherst, MA 01003, telephone (413) 545-2702, email repat@anthro.umass.edu, by October 10, 2014. After that date, if no additional requestors have come forward, transfer of control of the human remains and associated funerary objects to the Narragansett Indian Tribe; Stockbridge Munsee Community, Wisconsin; and Wampanoag Tribe of Gay Head (Aquinnah) may proceed.

The University of Massachusetts Amherst, Department of Anthropology is responsible for notifying the Narragansett Indian Tribe; Stockbridge Munsee Community, Wisconsin; Wampanoag Tribe of Gay Head (Aquinnah); and non-Federally recognized Indian groups, including Abenaki Nation of Missisquoi, St. Francis/Sokoki Band, VT; Abenaki Nation of New Hampshire; Cowasuck Band of the Pennacook—Abenaki People, NH; Elnu Tribe of the Abenaki, VT; Koasek (Cowasuck) Traditional Band of the Koas Abenaki Nation, VT; Koasek Traditional Band of the Sovereign Abenaki Nation, VT; Nulhegan Band of the Coosuk-Abenaki Nation, VT; and Chaubunagungamaug Nipmuck and Nipmuc Nation, MA, that this notice has been published.

Dated: July 16, 2014.
Sherry Hutt,
Manager, National NAGPRA Program.

[FR Doc. 2014-21515 Filed 9-9-14; 8:45 am]

BILLING CODE 4312-50-P